DEPARTMENT OF TRANSPORTATION

Pipeline and Hazardous Materials Safety Administration

49 CFR Parts 106, 107, 171, 172, 173, 174, 175, 176, 177, 178, 179, and 180

[Docket No. PHMSA-2018-0082 (HM-260A)]

RIN 2137-AF43

Hazardous Materials: Editorial Corrections and Clarifications

Correction

In rule document 2020-23353 appearing on pages 83366 through 83403 in the issue of Monday, December 21, 2020, make the following correction:

(1) On page 83366, in the DATES section, change “January 20, 2021” to read “January 21, 2021.”

(2) On page 83366, in the second column, on line twenty-nine change “January 20, 2021” to read “January 21, 2021.”

[FR Doc. C1-2020-23353 Filed 1-12-21; 8:45 am]

BILLING CODE 1301-00-D